DEPARTMENT OF THE TREASURY

Internal Revenue Service

26 CFR Part 1

[TD 9777]

RIN 1545-BG41; 1545-BH38

Arbitrage Guidance for Tax-Exempt Bonds; Correction

AGENCY: Internal Revenue Service (IRS), Treasury.

ACTION: Correcting amendment.

SUMMARY: This document contains corrections to final regulations (TD 9777) that were published in the Federal Register on Monday, July 18, 2016. The final regulations are related to arbitrage restrictions under section 148 of the Internal Revenue Code applicable to tax-exempt bonds and other tax-advantaged bonds issued by State and local governments.

DATES: This correction is effective on April 3, 2018 and is applicable on or after July 18, 2016.

FOR FURTHER INFORMATION CONTACT: Spence Hanemann at (202) 317-6980 (not a toll-free number).

SUPPLEMENTARY INFORMATION:

Background

The final regulations (TD 9777) that are the subject of this correction are issued under section 148 of the Internal Revenue Code.

Need for Correction

As published July 18, 2016 (81 FR 46582), the final regulations (TD 9777) contain an error that needs to be corrected.

List of Subjects in 26 CFR Part 1

Income taxes, Reporting and recordkeeping requirements.

Correction of Publication

Accordingly, 26 CFR part 1 is corrected by making the following correcting amendments:

PART 1—INCOME TAXES

Paragraph 1. The authority citation for part 1 continues to read in part as follows:

Authority: 26 U.S.C. 7805 * * *

Par. 2. Section 1.148-4 is amended by revising the paragraph heading for paragraph (h)(3)(iv) to read as follows:

§ 1.148-4 Yield on an issue of bonds.

* * * * *

(h) * * *

(3) * * *

(iv) Accounting for modifications and terminations—* * *

* * * * *

Martin V. Franks,
Chief, Publications and Regulations Branch, Legal Processing Division, Associate Chief Counsel (Procedure and Administration).

[FR Doc. 2018-06704 Filed 4-2-18; 8:45 am]

BILLING CODE 4830-01-P